NATIONAL SCIENCE FOUNDATION

Earth Sciences Proposal Review Panel; Notice of Meeting

In accordance with the Federal Advisory Committee Act (Pub. L. 92-463, as amended), the National Science Foundation announces the following meeting.

Name: Proposal Review Panel in Earth Sciences (1569).

Date and Time: January 13, 2011, 8:30 a.m.-5 p.m.; January 14, 2011, 8:30 a.m.-4 p.m.

Place: UNAVCO, Inc. Headquarters, 67350 Nautilus Drive, Boulder, CO 80301-5554.

Type of Meeting: Part Open.

Contact Person: Mr. Russell Kelz, Program Director, Instrumentation & Facilities Program, Division of Earth Sciences, Room 785, National Science Foundation, 4201 Wilson Blvd., Arlington, VA 22230; Telephone: (703) 292-8558.

Purpose of Meeting: To carry out review of UNAVCO, Inc. management and leadership as stipulated in cooperative agreement EAR-0735156.

Agenda

Closed:

January 13, 2011—8:30 a.m.-9:30 a.m.: organization meeting, introductions, review of charge to review panel, discussion of COI.

January 13, 2011—1 p.m.-5 p.m.: panel discussion, write up of summary of findings and recommendations.

January 14, 2011—8:30 a.m.-3:30 p.m.: complete panel summary and recommendations.

Open:

January 13, 2011—9:30 a.m.-12:00 p.m.: Presentation by UNAVCO, Inc. management and Q&A between panel and UNAVCO, Inc.

January 14, 2011—3:30 a.m.-4 p.m.: Presentation of panel draft findings to NSF/EAR/IF Program.

Reason for Closing: During the closed sessions, the panel will be reviewing information of a proprietary or confidential nature, including technical information, financial data such as salaries, and personal information that could harm individuals if they are disclosed. If discussions were open to the public, these matters that are exempt under 5 U.S.C. 552b(c), (4) and (6) of the Government in the Sunshine Act would be improperly disclosed.

Dated: December 21, 2010,
Susanne Bolton,
Committee Management Officer.

[FR Doc. 2010-32408 Filed 12-23-10; 8:45 am]

BILLING CODE 7555-01-P